DEPARTMENT OF JUSTICE

Notice of Proposed Consent Decree Under the Clean Air Act

Notice is hereby given that on September 28, 2010, a proposed Consent Decree in United States, et al. v. Murphy Oil USA, Inc., Civil Action No. 3:10-cv-00563-bbc, was lodged with the United States District Court for the Western District of Wisconsin.

The Consent Decree in this Clean Air Act enforcement actions against Murphy Oil USA, Inc. (“Murphy”) resolves allegations by the Environmental Protection Agency, the State of Wisconsin and the State of Louisiana asserted in a complaint filed together with the Consent Decree, under Section 113(b) of the Clean Air Act, 42 U.S.C. 7413(b), for alleged environmental violations at Murphy's petroleum refineries in Superior, Wisconsin and Meraux, Louisiana.

This Consent Decree is one of numerous national settlements reached as part of the EPA's Clean Air Act Petroleum Refinery Initiative. Consistent with the objectives of EPA's national initiative, in addition to the payment of $1.25 million in civil penalties, the settlement requires Murphy to perform injunctive relief at both of Murphy's refineries in Superior, Wisconsin and Meraux, Louisiana to reduce emissions of nitrogen oxides, sulfur dioxide, volatile organic compounds, and benzene, and to spend no less than $1.5 million to perform a supplemental environmental project to further reduce emissions of volatile organic compounds at the Meraux refinery.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matter as United States, et al. v. Murphy Oil USA, Inc., DOJ Ref. No. 90-5-2-1-09186.

The Consent Decree may be examined at the following Regional Offices of the United States Environmental Protection Agency: Region 5, 77 West Jackson Blvd., Chicago, IL 60604; and Region 6, 1445 Ross Avenue, Suite 1200, Dallas, Texas 75202.

During the public comment period, the proposed agreements may also be examined on the following Department of Justice Web site: http://www.usdoj.gov/enrd/Consent_Decrees.html. Copies of the proposed agreements may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States et al. v. Murphy Oil USA, Inc., Civil Action No. 3:10-cv-00563-bbc (W.D. Wis.), please enclose a check in the amount of $29.25 (25 cents per page reproduction cost) payable to the U.S. Treasury.

Maureen Katz,
Assistant Chief, Environmental Enforcement Section, Environment and Natural Resources Division.

[FR Doc. 2010-25121 Filed 10-5-10; 8:45 am]

BILLING CODE 4410-15-P